DEPARTMENT OF TRANSPORTATION

Surface Transportation Board

[STB Finance Docket No. 35091]

Pacific Unified Railroad Corporation—Operation Exemption—Kaiser Eagle Mountain Railroad

Pacific Unified Railroad Corporation (PURC), a noncarrier, has filed a notice of exemption under 49 CFR 1150.31 to operate, pursuant to an agreement with Kaiser Eagle Mountain Railroad (KEM), over KEM's approximately 52-mile rail right-of-way between milepost 52.0 in Eagle Mountain and milepost 0.0 at Ferrum Junction, in Riverside County, CA.

PURC certifies that its projected annual revenues as a result of the transaction would not exceed those that would qualify it as a Class III rail carrier. The transaction is expected to be consummated no sooner than 30 days after the filing of the notice of exemption, or after the December 23, 2007 effective date of the exemption.

If the verified notice contains false or misleading information, the exemption is void ab initio. Petitions to revoke the exemption under 49 U.S.C. 10502(d) may be filed at any time. The filing of a petition to revoke will not automatically stay the effectiveness of the exemption. Stay petitions must be filed by December 14 (at least 7 days before the exemption becomes effective).

An original and 10 copies of all pleadings, referring to STB Finance Docket No. 35091, must be filed with the Surface Transportation Board, 395 E Street, SW., Washington, DC 20423-0001. In addition, a copy of each pleading must be served on Gerald Lee, Pacific Unified Railroad Corporation, 3200 West End Avenue, Suite 500, Nashville, TN 37203.

Board decisions and notices are available on our Web site at http://www.stb.dot.gov.

Decided: December 4, 2007.
By the Board, David M. Konschnik, Director, Office of Proceedings.
Vernon A. Williams,
Secretary.

[FR Doc. E7-23813 Filed 12-6-07; 8:45 am]

BILLING CODE 4915-01-P